DEPARTMENT OF LABOR

Employment and Training Administration

[TA-W-81,500]

Startek Usa, Inc.; Including On-Site Leased Workers From Staffmark East, LLC and Staffmark; Jonesboro, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on May 17, 2012, applicable to workers of Startek USA, Inc., including on-site leased workers from Staffmark East, LLC, Jonesboro, Arkansas. The workers are engaged in activities related to the supply of business support and call center services.

At the request from the State of Arkansas, the Department reviewed the certification for workers of the subject firm.

The request was to amend the immediate certification to include workers of Staffmark working on-site at Startek USA, Inc., Jonesboro, Arkansas.

The Department has determined that these workers were sufficiently under the control of Startek USA, Inc. to be considered leased workers.

The intent of the Department's certification is to include all workers of the subject firm who were adversely affected by a shift in the supply of services to a foreign country.

Based on these findings, the Department is amending this certification to include workers leased from Staffmark working on-site at the Jonesboro, Arkansas location of the subject firm.

The amended notice applicable to TA-W-81,500 is hereby issued as follows:

All workers of StarTek USA, Inc., including on-site leased workers from Staffmark East, LLC and Staffmark, Jonesboro, Arkansas, who became totally or partially separated from employment on or after March 27, 2011, through May 17, 2014, and all workers in the group threatened with total or partial separation from employment on May 17, 2012 through May 17, 2104, are eligible to apply for adjustment assistance under Chapter 2 of Title II of the Trade Act of 1974, as amended.

Signed in Washington, DC, this 9th day of May, 2014
Del Min Amy Chen,
Certifying Officer, Office of Trade Adjustment Assistance.

[FR Doc. 2014-12051 Filed 5-23-14; 8:45 am]

BILLING CODE 4510-FN-P